DEPARTMENT OF HEALTH AND HUMAN SERVICES

Centers for Disease Control and Prevention

Disease, Disability, and Injury Prevention and Control Special

Emphasis Panel (SEP): Secondary Review

This is to announce the cancelation of a meeting, Research Grants for Preventing Violence and Violence Related Injury (R01), CE17-003 and PHS 2016-02 Omnibus Solicitation of the NIH, CDC FDA, and ACF for Small Business Innovation Research Grant Applications (Parent SBIR [R43/R44]).

SUMMARY: This meeting was announced in the Federal Register on June 12, 2017, Volume 82, Number 111, pages 26933 and 26934. This meeting is canceled in its entirety.

CONTACT PERSON FOR MORE INFORMATION: Gwendolyn H. Cattledge, Ph.D., M.S.E.H., Deputy Associate Director for Science, National Center for Injury Prevention and Control, CDC, 4770 Buford Highway NE., Mailstop F-63, Atlanta, Georgia 30341, Telephone (770) 488-1430.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-13925 Filed 6-30-17; 8:45 am]

BILLING CODE 4163-18-P